DEPARTMENT OF COMMERCE

National Oceanic and Atmospheric Administration

50 CFR Part 679

RIN 0648-BB42

Fisheries of the Exclusive Economic Zone off Alaska and Pacific Halibut Fisheries; Observer Program

AGENCY: National Marine Fisheries Service (NMFS), National Oceanic and Atmospheric Administration (NOAA), Commerce.

ACTION: Notice of public hearing.

SUMMARY: On April 18, 2012, we, NMFS, published a proposed rule in the Federal Register to restructure the funding and deployment system for observers in North Pacific groundfish and halibut fisheries via Amendment 86 to the Fishery Management Plan for Groundfish of the Bering Sea and Aleutian Islands Management Area (BSAI FMP) and Amendment 76 to the Fishery Management Plan for Groundfish of the Gulf of Alaska (GOA FMP). The public comment period for the subject proposed rule closes on June 18, 2012. We will hold a public hearing in Seattle, WA, to receive oral and written comments on the proposed regulations during the public comment period.

DATES: The public hearing will be held on June 1, 2012, 10 a.m. to 12 p.m., Pacific daylight time, at the NOAA Alaska Fisheries Science Center, 7600 Sand Point Way NE., Building 4, Observer Training Room (1055), Seattle, WA 98115. Written comments must be received no later than 5 p.m., Alaska local time, June 18, 2012.

ADDRESSES: You may submit comments, identified by FDMS Docket Number NOAA-NMFS-2011-0210, by any one of the following methods:

• Electronic Submissions: Submit all electronic public comments via the Federal eRulemaking Portal Web site at http://www.regulations.gov. To submit comments via the e-Rulemaking Portal, first click the “Submit a Comment” icon, then enter NOAA-NMFS-2011-0210 in the keyword search. Locate the document you wish to comment on from the resulting list and click on the “Submit a Comment” icon on the right of that line.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

• Submit oral or written comments to NMFS at the public hearing listed in this notice.

Comments must be submitted by one of the above methods to ensure that the comments are received, documented, and considered by NMFS. Comments sent by any other method, to any other address or individual, or received after the end of the comment period, may not be considered.

All comments received are a part of the public record and will generally be posted to http://www.regulations.gov without change. All Personal Identifying Information (e.g., name, address) voluntarily submitted by the commenter will be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

Electronic copies of the proposed rule to implement Amendment 86 to the BSAI FMP and Amendment 76 to the GOA FMP and the Environmental Assessment/Regulatory Impact Review/Initial Regulatory Flexibility Analysis prepared for this action may be obtained from http://www.regulations.gov or from the NMFS Alaska Region Web site at http://alaskafisheries.noaa.gov.

FOR FURTHER INFORMATION CONTACT: Brandee Gerke, (907) 586-7228.

SUPPLEMENTARY INFORMATION: On April 18, 2012, we, NMFS, published a proposed rule in the Federal Register (77 FR 23326) to restructure the funding and deployment system for observers in the North Pacific groundfish and halibut fisheries via Amendment 86 to the BSAI FMP and Amendment 76 to GOA FMP. The proposed rule was prepared under the authority of section 313 of the Magnuson-Stevens Fishery Conservation and Management Act (MSA). MSA section 313 requires NMFS to conduct a public hearing in each state represented on the North Pacific Fishery Management Council (Council) for the purpose of receiving public comment on the proposed regulations. The states represented on the Council are Alaska, Oregon, and Washington. We held public hearings in Seattle, WA, on April 17, 2012; Newport, OR, on April 19, 2012; and in Juneau, AK, on May 2, 2012. Because the proposed regulations did not publish until April 18, 2012, we will conduct another public hearing on the proposed regulations in Seattle, WA, to receive written and oral comments on the proposed regulations.

People wishing to make an oral statement for the record at the public hearing are encouraged to provide a written copy of their statement and present it to us at the hearing. If attendance at the public hearing is large, the time allotted for individual oral statements may be limited. Oral and written statements receive equal consideration. There are no limits on the length of written comments submitted to us.

There is no need to register for the hearing. Please be advised that a valid government-issued photo-identification will be required for entry through building security at the hearing.

Authority: 16 U.S.C. 1801 et seq.

Dated: May 15, 2012.
Carrie Selberg,
Acting Director, Office of Sustainable Fisheries, National Marine Fisheries Service.

[FR Doc. 2012-12273 Filed 5-18-12; 8:45 am]

BILLING CODE 3510-22-P